DEPARTMENT OF JUSTICE

Notice of Lodging of Proposed Consent Decree Under the Comprehensive Environmental Response, Compensation, and Liability Act

On April 1, 2024, the Department of Justice lodged a proposed Consent Decree with the United States District Court for the Western District of New York in the lawsuit entitled U.S. v. Kyocera AVX Components Corporation, Civil No. 1:24-cv-305.

In this action, the United States seeks, pursuant to the Comprehensive Environmental Response, Compensation, and Liability Act (“CERCLA”), 42 U.S.C. 9601, et seq., injunctive relief and recovery of response costs regarding the Olean Wellfield Superfund Site in the City of Olean, the Town of Olean, and the Town of Portville, New York (the “Site”). The proposed Consent Decree will require the Kyocera AVX Components Corporation (“KAVX”) to perform the “Operable Unit 5” (“OU5”) remedial action at the Site, and to reimburse the U.S. Environmental Protection Agency for its past and future costs regarding the OU5 remedial action. The OU5 remedial action comprises the performance of a soil cleanup at a parcel of property owned by KAVX.

The publication of this notice opens a period for public comment on the Consent Decree. Comments should be addressed to the Assistant Attorney General, Environment and Natural Resources Division, and should refer to U.S. v. Kyocera AVX Components Corporation, D.J. Ref. No. 90-11-3-181/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Henry Friedman,
Assistant Section Chief, Environmental Enforcement Section, Environment and Natural Resources Division.

[FR Doc. 2024-07269 Filed 4-4-24; 8:45 am]

BILLING CODE 4410-15-P